SECURITIES AND EXCHANGE COMMISSION

[File No. 500-1]

Brooke Corporation; Order of Suspension of Trading

August 28, 2009.

It appears to the Securities and Exchange Commission that there is a lack of current and accurate information concerning the securities of Brooke Corporation because it has not filed any periodic reports with the Commission since the period ended June 30, 2008.

The Commission is of the opinion that the public interest and the protection of investors require a suspension of trading in the securities of the above-listed company.

Therefore, it is ordered, pursuant to Section 12(k) of the Securities Exchange Act of 1934, that trading in the securities of the above-listed company is suspended for the period from 9:30 a.m. EDT, August 28, 2009 through 11:59 p.m. EDT, on September 11, 2009.

By the Commission.
Elizabeth M. Murphy,
Secretary.

[FR Doc. E9-21142 Filed 8-28-09; 11:15 am]

BILLING CODE 8010-01-P